DEPARTMENT OF VETERANS AFFAIRS

38 CFR Part 4

RIN 2900-AQ67

Schedule for Rating Disabilities: The Cardiovascular System; Correction

AGENCY: Department of Veterans Affairs.

ACTION: Correcting amendments.

SUMMARY: On September 30, 2021, the Department of Veterans Affairs (VA) published in the Federal Register a final rule that amended the portion of the VA Schedule for Rating Disabilities (“VASRD” or “rating schedule”) that addresses the cardiovascular system. This correction addresses the application of the general rating formula for diseases of the heart in the published final rule.

DATES: This correction is effective November 29, 2021.

FOR FURTHER INFORMATION CONTACT: Gary Reynolds, M.D., VASRD Program Management Office (210), Compensation Service, Veterans Benefits Administration, Department of Veterans Affairs, 810 Vermont Avenue NW, Washington, DC 20420, (202) 461-9700. (This is not a toll-free telephone number.)

SUPPLEMENTARY INFORMATION: VA is correcting its regulations, which published under “Schedule for Rating Disabilities: The Cardiovascular System” (RIN 2900-AQ67), on September 30, 2021, in the Federal Register at 86 FR 54089. The error is with § 4.100 Application of the general rating formula for diseases of the heart. VA removed left ventricular ejection fraction (LVEF) from the general rating formula for diseases of the heart but failed to remove every reference to LVEF in its evaluation criteria. Paragraph (c) of § 4.100 of title 38 Code of Federal Regulations (CFR) provides instructions for addressing situations where LVEF is not of record. These instructions are no longer relevant considering the removal of LVEF from consideration in evaluating heart diseases. VA is correcting that error by removing paragraph (c).

List of Subjects in 38 CFR Part 4

Disability benefits, Pensions, Veterans.

For the reasons set out in the preamble, 38 CFR part 4 is corrected by making the following correcting amendment:

PART 4—SCHEDULE FOR RATING DISABILITIES

1. The authority citation for part 4 continues to read as follows:

Authority: 38 U.S.C. 1155, unless otherwise noted.

§ 4.100 [Amended]

2. Amend § 4.100 by removing paragraph (c).

Jeffrey M. Martin,
Assistant Director, Office of Regulation Policy & Management, Office of the Secretary, Department of Veterans Affairs.

[FR Doc. 2021-25931 Filed 11-26-21; 8:45 am]

BILLING CODE 8320-01-P